DEPARTMENT OF EDUCATION

Office of Innovation and Improvement Program (OII); Overview Information; Star Schools Program; Notice Inviting Applications for New Awards for Fiscal Year (FY) 2005

Catalog of Federal Domestic Assistance (CFDA) Number: 84.203G.

DATES: Applications Available: March 8, 2005.

Date of Pre-Application Meeting: March 11, 2005 (webcast).

Deadline for Notice of Intent to Apply: April 7, 2005.

Deadline for Transmittal of Applications: May 9, 2005.

Deadline for Intergovernmental Review: July 6, 2005.

Eligible Applicants: Eligible entities, which include any one of the following that is organized on a Statewide or multistate basis:

(1) A public agency or corporation established for the purpose of developing and operating telecommunications networks to enhance educational opportunities provided by educational institutions, teacher training centers, and other entities, except that any such agency or corporation shall represent the interests of elementary schools and secondary schools that are eligible to participate in the program under part A of title I of the Elementary and Secondary Education Act of 1965 (ESEA), as amended by the No Child Left Behind Act of 2001 (NCLB).

(2) A partnership that will provide telecommunications services and that includes three or more of the following entities, at least one of which must be an agency, as described in paragraphs (A) or (B) below:

(A) A local educational agency (LEA) that serves a significant number of elementary and secondary schools that are eligible for assistance under part A of title I of the ESEA, or elementary and secondary schools operated or funded for Indian children by the Department of the Interior eligible under section 1121(d)(1)(A) of the ESEA.

(B) A State educational agency.

(C) An adult and family education program.

(D) An institution of higher education or a State higher education agency, as that term is defined in section 103 of the Higher Education Act of 1965, as amended (HEA), 20 U.S.C. 1003.

(E) A teacher training center or academy that provides teacher preservice and inservice training, and receives Federal financial assistance or has been approved by a State agency.

(F) A public or private entity with experience and expertise in the planning and operation of a telecommunications network, including entities involved in telecommunications through satellite, cable, telephone, or computer; or a public broadcasting entity with such experience.

(G) A public or private elementary or secondary school.

Note: To receive funding, at least one LEA must participate in the proposed project.

Estimated Available Funds: $14,400,000.

Estimated Range of Awards: $1,500,000-$3,000,000.

Estimated Average Size of Awards: $2,000,000.

Maximum Award: An award granted under this competition cannot, in any single fiscal year, exceed $10,000,000.

Estimated Number of Awards: 5-7.

Note: The Department is not bound by any estimates in this notice.

Project Period: Up to 60 months.

Full Text of Announcement

I. Funding Opportunity Description

Purpose of Program: The purpose of the Star Schools program is to—

(A) Encourage improved instruction in mathematics, science, and foreign languages, as well as other subjects (such as literacy skills and vocational education); and

(B) Serve underserved populations, including disadvantaged, illiterate, limited English proficient populations, and individuals with disabilities through grants to eligible telecommunications partnerships to enable the partnerships to—

(i) Develop, construct, acquire, maintain and operate telecommunications audio and visual facilities and equipment;

(ii) Develop and acquire educational and instructional programming; and

(iii) Obtain technical assistance for the use of such facilities and instructional programming.

Priorities: This competition includes two absolute priorities and six competitive preference priorities.

Absolute Priorities: We are establishing these priorities for the FY 2005 grant competition only, in accordance with section 437(d)(1) of the General Education Provisions Act (GEPA). For FY 2005 these priorities are absolute priorities. Under 34 CFR 75.105(c)(3) we consider only applications that meet one or more of these priorities.

The priorities are:

Absolute Priority 1—Supplemental Educational Services (SES) Using Emerging Mobile Technologies in Urban and Rural Communities To Enhance Reading and Mathematics Achievement

The Secretary establishes an absolute priority for applications that propose SES using emerging mobile technologies for students attending schools in urban and rural communities that have not achieved Annual Yearly Progress (AYP) in two or more years. Student achievement must be evaluated using online assessment strategies.

Absolute Priority 2—Educational Gaming and Simulations Applications for Emerging Mobile Technologies To Enhance Literacy Skills and Mathematics at Any Grade Level or Span of Grade Levels

The Secretary establishes an absolute priority for applications that propose to develop partnerships with technology-based research centers, entertainment companies, or other high-technology entities to produce and deliver educational gaming and simulations applications to improve mathematics and reading literacy through scientifically based research strategies as appropriate. The applicant must ensure that no less than 50 percent of the schools participating in this activity include a high concentration of low-income children who attend schools in urban or rural communities. Student achievement must be evaluated using online assessment strategies.

The term low-income children is defined on the basis of the poverty criteria in section 1113(a)(5) of the ESEA. Under those criteria, low-income children are children ages 5 through 17 who are: (i) Living in poverty (as counted in the most recent census data approved by the Secretary); (ii) eligible for free or reduced priced lunches under the Richard B. Russell National School Lunch Act; (iii) living in families receiving funding under the State program funded under part A of title IV of the Social Security Act; or (iv) eligible to receive medical services under the Medicaid program. This definition applies to all uses of the term low-income children in this notice.

Competitive Preference Priority 1: This priority is from the notice of final priority for Scientifically Based Evaluation Methods, published in the Federal Register on January 25, 2005 (70 FR 3586). For FY 2005 this priority is a competitive preference priority. Under 34 CFR 75.105(c)(2)(i) we award up to an additional 25 points to an application, depending on the extent to which the application meets this priority.

Note: In awarding additional points to applications that address this competitive preference priority, we will consider only those applications that have top-ranked scores on the basis of the Selection Criteria in Section V of this notice.

This priority is:

Competitive Preference Priority 1

The Secretary establishes a priority for projects proposing an evaluation plan that is based on rigorous scientifically based research methods to assess the effectiveness of a particular intervention. The Secretary intends that this priority will allow program participants and the Department to determine whether the project produces meaningful effects on student achievement or teacher performance.

Evaluation methods using an experimental design are best for determining project effectiveness. Thus, when feasible, the project must use an experimental design under which participants—e.g., students, teachers, classrooms, or schools—are randomly assigned to participate in the project activities being evaluated or to a control group that does not participate in the project activities being evaluated.

If random assignment is not feasible, the project may use a quasi-experimental design with carefully matched comparison conditions. This alternative design attempts to approximate a randomly assigned control group by matching participants—e.g., students, teachers, classrooms, or schools—with non-participants having similar pre-program characteristics.

In cases where random assignment is not possible and participation in the intervention is determined by a specified cutting point on a quantified continuum of scores, regression discontinuity designs may be employed.

For projects that are focused on special populations in which sufficient numbers of participants are not available to support random assignment or matched comparison group designs, single-subject designs such as multiple baseline or treatment-reversal or interrupted time series that are capable of demonstrating causal relationships can be employed.

Proposed evaluation strategies that use neither experimental designs with random assignment nor quasi-experimental designs using a matched comparison group nor regression discontinuity designs will not be considered responsive to the priority when sufficient numbers of participants are available to support these designs. Evaluation strategies that involve too small a number of participants to support group designs must be capable of demonstrating the causal effects of an intervention or program on those participants.

The proposed evaluation plan must describe how the project evaluator will collect—before the project intervention commences and after it ends—valid and reliable data that measure the impact of participation in the program or in the comparison group.

If the priority is used as a competitive preference priority, points awarded under this priority will be determined by the quality of the proposed evaluation method. In determining the quality of the evaluation method, we will consider the extent to which the applicant presents a feasible, credible plan that includes the following:

(1) The type of design to be used (that is, random assignment or matched comparison). If matched comparison, include in the plan a discussion of why random assignment is not feasible.

(2) Outcomes to be measured.

(3) A discussion of how the applicant plans to assign students, teachers, classrooms, or schools to the project and control group or match them for comparison with other students, teachers, classrooms, or schools.

(4) A proposed evaluator, preferably independent, with the necessary background and technical expertise to carry out the proposed evaluation. An independent evaluator does not have any authority over the project and is not involved in its implementation.

In general, depending on the implemented program or project, under a competitive preference priority, random assignment evaluation methods will receive more points than matched comparison evaluation methods.

Definitions

As used in this notice—

Scientifically based research (section 9101(37) of the ESEA, 20 U.S.C. 7801(37)):

(A) Means research that involves the application of rigorous, systematic, and objective procedures to obtain reliable and valid knowledge relevant to education activities and programs; and

(B) Includes research that—

(i) Employs systematic, empirical methods that draw on observation or experiment;

(ii) Involves rigorous data analyses that are adequate to test the stated hypotheses and justify the general conclusions drawn;

(iii) Relies on measurements or observational methods that provide reliable and valid data across evaluators and observers, across multiple measurements and observations, and across studies by the same or different investigators;

(iv) Is evaluated using experimental or quasi-experimental designs in which individual entities, programs, or activities are assigned to different conditions and with appropriate controls to evaluate the effects of the condition of interest, with a preference for random-assignment experiments, or other designs to the extent that those designs contain within-condition or across-condition controls;

(v) Ensures that experimental studies are presented in sufficient detail and clarity to allow for replication or, at a minimum, offer the opportunity to build systematically on their findings; and

(vi) Has been accepted by a peer-reviewed journal or approved by a panel of independent experts through a comparably rigorous, objective, and scientific review.

Random assignment or experimental design means random assignment of students, teachers, classrooms, or schools to participate in a project being evaluated (treatment group) or not participate in the project (control group). The effect of the project is the difference in outcomes between the treatment and control groups.

Quasi experimental designs include several designs that attempt to approximate a random assignment design.

Carefully matched comparison groups design means a quasi-experimental design in which project participants are matched with non-participants based on key characteristics that are thought to be related to the outcome.

Regression discontinuity design means a quasi-experimental design that closely approximates an experimental design. In a regression discontinuity design, participants are assigned to a treatment or control group based on a numerical rating or score of a variable unrelated to the treatment such as the rating of an application for funding. Eligible students, teachers, classrooms, or schools above a certain score (“cut score”) are assigned to the treatment group and those below the score are assigned to the control group. In the case of the scores of applicants' proposals for funding, the “cut score” is established at the point where the program funds available are exhausted.

Single subject design means a design that relies on the comparison of treatment effects on a single subject or group of single subjects. There is little confidence that findings based on this design would be the same for other members of the population.

Treatment reversal design means a single subject design in which a pre-treatment or baseline outcome measurement is compared with a post-treatment measure. Treatment would then be stopped for a period of time, a second baseline measure of the outcome would be taken, followed by a second application of the treatment or a different treatment. For example, this design might be used to evaluate a behavior modification program for disabled students with behavior disorders.

Multiple baseline design means a single subject design to address concerns about the effects of normal development, timing of the treatment, and amount of the treatment with treatment-reversal designs by using a varying time schedule for introduction of the treatment and/or treatments of different lengths or intensity.

Interrupted time series design means a quasi-experimental design in which the outcome of interest is measured multiple times before and after the treatment for program participants only.

Competitive Preference Priorities 2-6: In accordance with 34 CFR 75.105(b)(2)(iv), these priorities are from section 5474(c)(2) of the ESEA, 20 U.S.C. 7255c(c)(2). Under 34 CFR 75.105(c)(2)(ii), we give preference to an application that meets one or more of these priorities over an application of comparable merit that does not meet the priorities.

These priorities are:

Competitive Preference Priority 2

To meet this priority, an application must describe a program that proposes high-quality plans, will provide instruction consistent with State academic content standards, or will otherwise provide significant and specific assistance to States and LEAs undertaking systemic education reform.

Competitive Preference Priority 3

To meet this priority, an application must describe a program that will provide services to programs serving adults, especially parents, with low levels of literacy.

Competitive Preference Priority 4

To meet this priority, an application must describe a program that will serve schools with significant numbers of children counted for the purposes of part A of title I of the ESEA.

Competitive Preference Priority 5

To meet this priority, an application must describe a program that ensures that the eligible entity will—

(1) Serve the broadest range of institutions, programs providing instruction outside of the school setting, programs serving adults, especially parents, with low levels of literacy, institutions of higher education, teacher training centers, research institutes, and private industry;

(2) Have substantial academic and teaching capabilities, including the capability of training, retraining, and inservice upgrading of teaching skills and the capability to provide professional development;

(3) Provide a comprehensive range of courses for educators to teach instructional strategies for students with different skill levels;

(4) Provide training to participating educators in ways to integrate telecommunications courses into existing school curriculum;

(5) Provide instruction for students, teachers, and parents;

(6) Serve a multistate area; and

(7) Give priority to the provision of equipment and linkages to isolated areas.

Competitive Preference Priority 6

To meet this priority, an application must describe a program that involves a telecommunications entity (such as a satellite, cable, telephone, computer, or public or private television stations) participating in the eligible entity and donating equipment or in-kind services for telecommunications linkages.

Waiver of Proposed Rulemaking: Under the Administrative Procedure Act (5 U.S.C. 553) the Department generally offers interested parties the opportunity to comment on proposed priorities. Section 437(d)(1) of GEPA, however, exempts from this requirement rules that apply to the first competition under a new or substantially revised program authority. This is the first competition under the reauthorized Star Schools program, which was revised by the NCLB, and therefore qualifies for this exemption. In order to ensure timely grant awards, the Secretary has decided to forego public comment on the absolute priorities in this notice under section 437(d)(1). These absolute priorities will apply to the FY 2005 grant competition only.

Program Authority: 20 U.S.C. 7255-7255f.

Applicable Regulations: (a) The Education Department General Administrative Regulations (EDGAR) in 34 CFR parts 74, 75, 77, 79, 80, 81, 82, 84, 85, 86, 97, 98, and 99.

(b) The notice of final priority for Scientifically Based Evaluation Methods, published in the Federal Register on January 25, 2005 (70 FR 3586).

Note: The regulations in 34 CFR part 79 apply to all applicants except Federally recognized Indian tribes.

Note: The regulations in 34 CFR part 86 apply to institutions of higher education only.

II. Award Information

Type of Award: Discretionary grants.

Estimated Available Funds: $14,400,000.

Estimated Range of Awards: $1,500,000-$3,000,000.

Estimated Average Size of Awards: $2,000,000.

Maximum Award: An award granted under this competition cannot, in any single fiscal year, exceed $10,000,000.

Estimated Number of Awards: 5-7.

Note: The Department is not bound by any estimates in this notice.

Project Period: Up to 60 months.

III. Eligibility Information

Eligible Applicants: Eligible entities, which include any one of the following that is organized on a Statewide or multistate basis:

(1) A public agency or corporation established for the purpose of developing and operating telecommunications networks to enhance educational opportunities provided by educational institutions, teacher training centers, and other entities, except that any such agency or corporation shall represent the interests of elementary schools and secondary schools that are eligible to participate in the program under part A of title I of the ESEA.

(2) A partnership that will provide telecommunications services and that includes three or more of the following entities, at least one of which must be an agency, as described in paragraphs (A) or (B) below:

(A) A LEA that serves a significant number of elementary and secondary schools that are eligible for assistance under part A of title I of the ESEA, or elementary and secondary schools operated or funded for Indian children by the Department of the Interior eligible under section 1121(d)(1)(A) of the ESEA.

(B) A State educational agency.

(C) An adult and family education program.

(D) An institution of higher education or a State higher education agency, as that term is defined in section 103 of the HEA, 20 U.S.C. 1003.

(E) A teacher training center or academy that provides teacher preservice and inservice training, and receives Federal financial assistance or has been approved by a State agency.

(F) A public or private entity with experience and expertise in the planning and operation of a telecommunications network, including entities involved in telecommunications through satellite, cable, telephone, or computer; or a public broadcasting entity with such experience.

(G) A public or private elementary or secondary school.

Note: To receive funding, at least one LEA must participate in the proposed project.

2. Cost Sharing or Matching: The Star Schools program requires a matching commitment on the part of the applicant. The Federal share of the cost of the grants funded under this program shall not exceed 75 percent for the first and second years, 60 percent for the third and fourth years, and 50 percent for the fifth year. The Secretary may reduce or waive this matching requirement upon a showing of financial hardship.

3. Indirect Cost Recovery: Grants under this program are subject to “supplement, not supplant” requirements of the authorizing statute. Projects may recover indirect costs only on the basis of a restricted indirect cost rate, according to the requirements found at 34 CFR 75.563 and 34 CFR 76.564-569. As soon as they decide to apply, applicants are urged to contact the ED Indirect Cost Group on (202) 377-3833 for guidance about obtaining a restricted indirect cost rate to use on the Budget Information form (ED Form 524) included with the application package.

IV. Application and Submission Information

1. Address To Request Application Package: You may obtain an application package via Internet or from the Education Publications Center (ED Pubs). To obtain a copy via Internet use the following address: http://www.ed.gov/fund/grant/apply/grantapps/index. To obtain a copy from ED Pubs, write or call the following: Education Publications Center, P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.203G.

Individuals with disabilities may obtain a copy of the application package in an alternative format (e.g., Braille, large print, audiotape, or computer diskette) by contacting the program contact person listed elsewhere in this notice under FOR FURTHER INFORMATION CONTACT (see VII. Agency Contacts).

2. Content and Form of Application Submission: a. Allowable Activities and Application Requirements: As set forth in statute, to receive a grant under this program, applicants may propose support for one or more of the following:

(1) The development, construction, acquisition, maintenance and operation of telecommunications facilities and equipment.

(2) The development and acquisition of live, interactive instructional programming.

(3) The development and acquisition of preservice and inservice teacher training programs based on established research regarding teacher-to-teacher mentoring, and ongoing, in-class instruction.

(4) The establishment of teleconferencing facilities and resources for making interactive training available to teachers.

(5) Obtaining technical assistance.

(6) The coordination of the design and connectivity of telecommunications networks to reach the greatest number of schools.

Applications must—

(1) Describe how the proposed project will assist all students to have an opportunity to meet challenging State academic achievement standards, how the project will assist State and local educational reform efforts, and how the project will contribute to creating a high quality system of educational development;

(2) Describe the telecommunications facilities and equipment and technical assistance for which assistance is sought which may include—

(A) The design, development, construction, acquisition, maintenance and operation of State or multistate educational telecommunications networks and technology resource centers;

(B) Microwave, fiber optics, cable, and satellite transmission equipment or any combination thereof;

(C) Reception facilities;

(D) Satellite time;

(E) Production facilities;

(F) Other telecommunications equipment capable of serving a wide geographic area;

(G) The provision of training services to instructors who will be using the facilities and equipment for which assistance is sought, including training in using such facilities and equipment and training in integrating the proposed program into the classroom curriculum; and

(H) The development of educational and related programming for use on a telecommunications network;

(3) In the case of an application for assistance for instructional programming, describe the types of programming that will be developed to enhance instruction and training and provide an assurance that such programming will be designed in consultation with professionals (including classroom teachers) who are experts in the applicable subject matter and grade level;

(4) Describe how the eligible entity has engaged in sufficient survey and analysis of the area to be served to ensure that the services offered by the eligible entity will increase the availability of courses of instruction in English, mathematics, science, foreign languages, arts, history, geography, or other disciplines;

(5) Describe the professional development policies for teachers and other school personnel to be implemented to ensure the effective use of the telecommunications facilities and equipment for which assistance is sought;

(6) Describe the manner in which historically underserved students (such as students from low-income families, limited English proficient students, students with disabilities, or students who have low literacy skills) and their families will participate in the benefits of the telecommunications facilities, equipment, technical assistance, and programming;

(7) Describe how existing telecommunications equipment, facilities, and services, where available, will be used;

(8) Provide an assurance that the financial interest of the United States in the telecommunications facilities and equipment will be protected for the useful life of such facilities and equipment;

(9) Provide an assurance that a significant portion of any facilities and equipment, technical assistance, and programming for which assistance is sought for elementary and secondary schools will be made available to schools or LEAs that have a high number or percentage of children eligible to be counted under part A of title I of the ESEA;

(10) Provide an assurance that the applicant will use the funds provided under this program to supplement and not supplant funds available for the purposes of the program;

(11) Describe how funds received under this program will be coordinated with funds received for educational technology in the classroom;

(12) Describe the activities or services for which assistance is sought, such as—

(A) Providing facilities, equipment, training services, and technical assistance;

(B) Making programs accessible to students with disabilities through mechanisms such as closed captioning and descriptive video services;

(C) Linking networks around issues of national importance (such as elections) or to provide information about employment opportunities, job training, or student and other social service programs;

(D) Sharing curriculum resources between networks and development of program guides which demonstrate cooperative, cross-network listing of programs for specific curriculum areas;

(E) Providing teacher and student support services, including classroom and training support materials which permit student and teacher involvement in the live interactive distance learning telecasts;

(F) Incorporating community resources, such as libraries and museums, into instructional programs;

(G) Providing professional development for teachers, including, as appropriate, training to early childhood development and Head Start teachers and staff and vocational education teachers and staff, and adult and family educators;

(H) Providing programs for adults to maximize the use of telecommunications facilities and equipment;

(I) Providing teacher training on proposed or established models of exemplary academic content standards in mathematics and science and other disciplines as such standards are developed; and

(J) Providing parent education programs during and after the regular school day which reinforce a student's course of study and actively involve parents in the learning process;

(13) Describe how the proposed project as a whole will be financed and how arrangements for future financing will be developed before the project expires;

(14) Provide an assurance that a significant portion of any facilities, equipment, technical assistance, and programming for which assistance is sought for elementary and secondary schools will be made available to schools in LEAs that have a high percentage of children counted for the purpose of part A of title I of the ESEA; and

(15) Provide an assurance that the applicant will provide such information and cooperate in any evaluation that the Secretary may conduct under this program.

b. Other Requirements: Additional requirements concerning the content of an application, together with the forms you must submit, are in the application package for this program.

Notice of Intent to Apply: Applicants that plan to apply for funding under this program are encouraged to indicate an intent to apply via e-mail notification sent to starschoolsintent@ed.gov no later than April 7, 2005. Applicants that fail to supply this e-mail notification may still apply for funding under this program.

Page Limit for Program Narrative: The program narrative is where you, the applicant, address the selection criteria (i.e., within the context of the absolute priorities) using the following standards:

• A “page” is 8.5″ x 11″, on one side only, with 1″ margins at the top, bottom, and both sides.

• Double space (no more than three lines per vertical inch) all text in the program narrative, including titles, headings, footnotes, quotations, references, and captions, as well as all text in charts, tables, figures, and graphs.

• Use a font that is either 12 point or larger or no smaller than 10 pitch (characters per inch).

• Although no page limit is required, applicants are encouraged to confine the program narrative to no more than 50 pages.

3. Submission Dates and Times: Applications Available: March 8, 2005.

Deadline for Notice of Intent to Apply: April 7, 2005.

Date of Pre-Application Meeting: March 11, 2005 (webcast).

The Department intends to hold a live webcast to permit potential applicants to pose questions about this grant competition and other technology grant competitions being held by OII. Following the live presentation, the webcast will be archived and remain online until the application deadline date. Interested applicants should link to the following site to participate in or access the web cast: http://www.kidzonline.org/tepwebcast. You may submit your intent to participate in the webcast to tepwebcast@ed.gov.

Deadline for Transmittal of Applications: May 9, 2005.

Applications for grants under this program must be submitted electronically using the Grants.gov Apply site (Grants.gov). For information (including dates and times) about how to submit your application electronically or by mail or hand delivery if you qualify for an exception to the electronic submission requirement, please refer to section IV. 6. Other Submission Requirements in this notice.

We do not consider an application that does not comply with the deadline requirements.

Deadline for Intergovernmental Review: July 6, 2005.

4. Intergovernmental Review: This program is subject to Executive Order 12372 and the regulations in 34 CFR part 79. Information about Intergovernmental Review of Federal Programs under Executive Order 12372 is in the application package for this program.

5. Funding Restrictions: We reference the regulations outlining funding restrictions in the Applicable Regulations section of this notice.

6. Other Submission Requirements: Applications for grants under this program must be submitted electronically unless you qualify for an exception to this requirement in accordance with the instructions in this section.

a. Electronic Submission of Applications. Applications for grants under the Star Schools program—CFDA Number 84.203G must be submitted electronically using the Grants.gov Apply site. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Star Schools program at: http://www.grants.gov. You must search for the downloadable application package for this program by the CFDA number. Do not include the CFDA number's alpha suffix in your search.

Please note the following:

• When you enter the Grants.gov site, you will find information about submitting an application electronically through the site, as well as the hours of operation.

• Applications received by Grants.gov are time and date stamped. Your application must be fully uploaded and submitted with a date/time received by the Grants.gov system no later than 4:30 p.m., Washington, DC time, on the application deadline date. We will not consider your application if it was received by the Grants.gov system later than 4:30 p.m. on the application deadline date. When we retrieve your application from Grants.gov, we will notify you if we are rejecting your application because it was submitted after 4:30 p.m. on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this program to ensure that your application is submitted timely to the Grants.gov system.

• To use Grants.gov, you, as the applicant, must have a D-U-N-S Number and register in the Central Contractor Registry (CCR). You should allow a minimum of five business days to complete the CCR registration.

• You will not receive additional point value because you submit your application in electronic format, nor will we penalize you if you qualify for an exception to the electronic submission requirement, as described elsewhere in this section, and submit your application in paper format.

• You must submit all documents electronically, including all information typically included on the Application for Federal Education Assistance (ED 424), Budget Information—Non-Construction Programs (ED 524), and all necessary assurances and certifications. Any narrative sections of your application should be attached as files in a .DOC (document), .RTF (rich text), or .PDF (Portable Document) format.

• Your electronic application must comply with any page limit requirements described in this notice.

• After you electronically submit your application, you will receive an automatic acknowledgement from Grants.gov that contains a Grants.gov tracking number. The Department will retrieve your application from Grants.gov and send you a second confirmation by e-mail that will include a PR/Award number (an ED-specified identifying number unique to your application).

• We may request that you provide us original signatures on forms at a later date.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Donald Fork, U.S. Department of Education, 400 Maryland Avenue, SW., room 4W219, Washington, DC 20202-5900. FAX: (202) 205-5720.

Your paper application must be submitted in accordance with the mail or hand delivery instructions described in this notice.

b. Submission of Paper Applications by Mail. If you qualify for an exception to the electronic submission requirement, you may mail (through the U.S. Postal Service or a commercial carrier), your application to the Department. You must mail the original and two copies of your application, on or before the application deadline date, to the Department at the applicable following address:

By mail through the U.S. Postal Service: U.S. Department of Education, Application Control Center, Attention: (CFDA Number 84.203G), 400 Maryland Avenue, SW., Washington, DC 20202-4260; or

By mail through a commercial carrier: U.S. Department of Education, Application Control Center—Stop 4260, Attention: (CFDA Number 84.203G), 7100 Old Landover Road, Landover, MD 20785-1506.

Regardless of which address you use, you must show proof of mailing consisting of one of the following:

(1) A legibly dated U.S. Postal Service postmark;

(2) A legible mail receipt with the date of mailing stamped by the U.S. Postal Service;

(3) A dated shipping label, invoice, or receipt from a commercial carrier; or

(4) Any other proof of mailing acceptable to the Secretary of the U.S. Department of Education.

If you mail your application through the U.S. Postal Service, we do not accept either of the following as proof of mailing:

(1) A private metered postmark; or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you qualify for an exception to the electronic submission requirement, you (or a courier service) may deliver your paper application to the Department by hand. You must deliver the original and two copies of your application by hand, on or before the application deadline date, to the Department at the following address: U.S. Department of Education, Application Control Center, Attention: (CFDA Number 84.203G), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are from 34 CFR 75.210. These selection criteria apply to the absolute priorities and allowable activities only. The maximum score for all of the selection criteria is 100 points. The maximum score for each criterion is indicated in parentheses with the criterion. The maximum number of points an application may earn based on Competitive Preference Priority 1 and the selection criteria is 125 points.

The Notes we have included after certain of the criteria are guidance to help applicants in preparing their applications and are not required by statute or regulation. The criteria are as follows:

(a) Need for the project (20 points). The Secretary considers the need for the proposed project. In determining the need, the Secretary considers the following factors:

(1) The extent to which the proposed project will provide services or otherwise address the needs of students at risk of educational failure.

(2) The extent to which the proposed project will focus on serving or otherwise addressing the needs of disadvantaged individuals.

(3) The extent to which specific gaps or weaknesses in services, infrastructure, or opportunities have been identified and will be addressed by the proposed project, including the nature and magnitude of those gaps or weaknesses.

Note: Applicants should provide information concerning the current gap in the quality and quantity of curriculum-based and scientifically based reading, mathematics, science or foreign language research (as applied to the specific absolute priority identified) for the targeted population and propose strategies designed to close that gap. Furthermore, applicants should describe how scientifically based research will be linked to the project and how academic content will be incorporated into the proposed activity to encourage success in school for low-income children. In responding to the priorities, applicants should note that low-income children are a target population under this program. For example, under Absolute Priority 1, applicants should identify the current status of SES programs that are using emerging mobile technologies and describe the gaps in such services for students attending schools in urban and rural communities. Under Absolute Priority 2, applicants should discuss the status and nature including the quality and quantity of online content currently used in elementary and middle schools including virtual schools, charter schools and virtual charter schools serving elementary and middle school students, particularly low-income children. Under Absolute Priority 2, applicants should discuss the extent of existing research on educational gaming and simulations applications to enhance academic achievement and their expectations for use with low-income children.

(b) Quality of the project design (25 Points). The Secretary considers the quality of the design of the proposed project. In determining the quality of the design of the proposed project, the Secretary considers the following factors:

(1) The extent to which the proposed project will establish linkages with other appropriate agencies and organizations providing services to the target population.

(2) The extent to which the goals, objectives, and outcomes to be achieved by the proposed project are clearly specified and measurable.

Note: Applicants should include a thorough, high-quality review of the relevant literature, a high-quality plan for project implementation, and a description of how appropriate methodological tools will be used to assess the impact of the proposed activities on enhancing the reading, mathematics, science or foreign language achievement of the targeted audience as measured against rigorous academic standards.

(c) Quality of project personnel (10 Points). The Secretary considers the quality of the personnel who will carry out the proposed project. In determining the quality of project personnel, the Secretary considers the extent to which the applicant encourages applications for employment from persons who are members of groups that have traditionally been underrepresented based on race, color, national origin, gender, age, or disability. In addition, the Secretary considers the following factors:

(1) The qualifications, including relevant training and experience, of key project personnel.

(2) The qualifications, including relevant training and experience, of project consultants or subcontractors.

(d) Adequacy of resources (10 Points). The Secretary considers the adequacy of resources for the proposed project. In determining the adequacy of resources for the proposed project, the Secretary considers the following factors:

(1) The extent to which the budget is adequate to support the proposed project.

(2) The potential for continued support of the project after Federal funding ends, including, as appropriate, the demonstrated commitment of appropriate entities to such support.

(e) Quality of the management plan (10 Points). The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The adequacy of procedures for ensuring feedback and continuous improvement in the operation of the proposed project.

(f) Quality of the project evaluation (25 Points). The Secretary considers the quality of the evaluation to be conducted of the proposed project. In determining the quality of the evaluation, the Secretary considers the following factors:

(1) The extent to which the methods of evaluation include the use of objective performance measures that are clearly related to the intended outcomes of the project and will produce quantitative and qualitative data to the extent possible.

(2) The extent to which the evaluation will provide guidance about effective strategies suitable for replication or testing in other settings.

Note: A strong evaluation plan should be included in the application narrative and should be used, as appropriate, to shape the development of the project from the beginning of the grant period. The plan should include benchmarks to monitor progress toward specific project objectives and also outcome measures to assess the impact on teaching and learning or other important outcomes for project participants. More specifically, the plan should identify the individual and/or organization that has agreed to serve as evaluator for the project and describe the qualifications of that evaluator. The plan should describe the evaluation design, indicating: (1) What types of data will be collected; (2) when various types of data will be collected; (3) what methods will be used; (4) what instruments will be developed and when; (5) how the data will be analyzed; (6) when reports of results and outcomes will be available; and (7) how the applicant will use the information collected through the evaluation to monitor progress of the funded project and to provide accountability information both about success at the initial site and effective strategies for replication in other settings. Applicants are encouraged to devote 25-30% of the grant funds to project evaluation.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants approved for funding under this competition may be required to attend a one- or two-day Grants Administration meeting in Washington, DC during the first year of the grant. In addition, applicants should budget for one Project Directors meeting to be held in Washington, DC in each subsequent year of the grant. The cost of attending these meetings may be paid from Star Schools program grant funds or other resources.

4. Reporting: At the end of your project period, you must submit a final performance report, including financial information, as directed by the Secretary. If you receive a multi-year award, you must submit an annual performance report that provides the most current performance and financial expenditure information as specified by the Secretary in 34 CFR 75.118. For specific requirements on grantee reporting, please go to http://www.ed.gov/fund/grant/apply/appforms/appforms.html.

5. Performance Measures: The Department is currently developing measures that will be designed to yield information on the effectiveness of grant-supported activities. If funded, applicants will be expected to participate in collecting and reporting data for these measures. We will notify grantees of the performance measures once they are developed.

VII. Agency Contacts

FOR FURTHER INFORMATION CONTACT: Donald Fork or Jean Tolliver, U.S. Department of Education, 400 Maryland Avenue, SW., Washington, DC 20202-5900. Telephone: (202) 205-5633 (Donald Fork) or (301) 925-8402 (Jean Tolliver) or by e-mail: Donald.Fork@ed.gov or Jean.Tolliver@ed.gov.

If you use a telecommunications device for the deaf (TDD), you may call the Federal Relay Service (FRS) at 1-800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 3, 2005.
Michael J. Petrilli,
Acting Assistant Deputy Secretary for Innovation and Improvement.

[FR Doc. 05-4441 Filed 3-7-05; 8:45 am]

BILLING CODE 4000-01-P